FEDERAL MARITIME COMMISSION

Notice of Agreements Filed

The Commission hereby gives notice of filing of the following agreement under the Shipping Act of 1984. Interested parties may submit comments, relevant information, or documents regarding the agreement to the Secretary by email at Secretary@fmc.gov, or by mail, Federal Maritime Commission, 800 North Capitol Street, Washington, DC 20573. Comments will be most helpful to the Commission if received within 12 days of the date this notice appears in the Federal Register, and the Commission requests that comments be submitted within 7 days on agreements that request expedited review. Copies of this agreement are available through the Commission's website (www.fmc.gov) or by contacting the Office of Agreements at (202) 523-5793 or tradeanalysis@fmc.gov.

Agreement No.: 201315-002.

Agreement Name: NYSA-ILA Assessment Agreement.

Parties: International Longshoremen's Association, AFL-CIO; and United States Maritime Alliance, Ltd.

Filing Party: Richard Ciampi, The Lambos Firm LLP.

Synopsis: The Amendment reflects the reduction of the assessment for House Containers Within 260 Miles in All other Trades from $89 to $79 and the assessment for Empty Containers in All other Trades and for empty Mafis is reduced from $40 to $35.

Location: https://www2.fmc.gov/FMC.Agreements.Web/Public/AgreementHistory/22427.

Dated: March 28, 2025.
Jennifer Everling,
Assistant Secretary.

[FR Doc. 2025-05656 Filed 4-1-25; 8:45 am]

BILLING CODE 6730-02-P